DEPARTMENT OF COMMERCE

National Telecommunications and Information Administration

Meeting of the Multistakeholder Forum for the National Spectrum Strategy Band Studies

AGENCY: National Telecommunications and Information Administration, Department of Commerce.

ACTION: Notice of open meeting.

SUMMARY: This notice announces a public meeting for providing input to spectrum band studies directed by the National Spectrum Strategy and National Spectrum Strategy Implementation Plan, which instructed the National Telecommunications and Information Administration (NTIA) to establish a multistakeholder forum for non-Federal stakeholders to engage with the Federal agencies conducting the studies. This is the first of what NTIA expects will be a series of public multistakeholder meetings held approximately every other month.

In this meeting, the objectives, processes, timelines, and deliverables for obtaining input from the public will be discussed, with particular focus on the study of the 3.1-3.45 GHz and 7.125-8.4 GHz bands. In this meeting and in future meetings, NTIA will solicit targeted information from the public, including industry and academia, on spectrum use cases, coexistence scenarios, existing technology solutions, and technical inputs.

DATES: The meeting will be held on August 23, 2024, from 10:00 a.m. to Noon, Eastern Standard Time (EST).

ADDRESSES: The meeting will be held at the Herbert C. Hoover Federal Building Auditorium, Washington, DC. Use the entrance on 14th Street NW, between Constitution Ave. and Pennsylvania Ave.

FOR FURTHER INFORMATION CONTACT: Please direct questions regarding this Notice to adavenport@ntia.gov, indicating “Lower 3 and ⅞ GHz Public Multistakeholder Meeting” in the subject line, or if by mail, address inquiries to National Telecommunications and Information Administration, U.S. Department of Commerce, 1401 Constitution Avenue NW, Washington, DC 20230. By telephone, contact Ashley Davenport at 240-961-1937. Please direct media inquiries to Charles Meisch, (202) 482-7002, or NTIA's Office of Public Affairs, press@ntia.gov.

SUPPLEMENTARY INFORMATION: Background: The White House issued the National Spectrum Strategy on November 13, 2023, laying out a blueprint for American innovation, competition, and security in advanced wireless technologies. See National Spectrum Strategy at https://www.ntia.gov/sites/default/files/publications/national_spectrum_strategy_final.pdf. The National Spectrum Strategy directed detailed studies of certain spectrum bands to determine whether they may be repurposed for expanded or more efficient uses. To that end, NTIA and other Federal agencies are engaging in studies of the 3.1-3.45 GHz, the 7.125-8.4 GHz, and other spectrum bands. This series of meetings will ensure that the public can provide input to the spectrum band studies.

Matters To Be Considered: The planned meeting for August 23, 2024, will include discussion of the objectives, processes, timelines, and deliverables for obtaining input from the public.

Time and Date: The meeting will be held on August 23, 2024, from 10:00 a.m. to Noon, Eastern Standard Time (EST). The meeting time and the agenda topics are subject to change. Please refer to NTIA's website, http://www.ntia.gov, for the most up-to-date meeting agenda and access information.

Place: The meeting will be held at the Herbert C. Hoover Federal Building Auditorium, Washington, DC. Individuals who wish to attend must register no later than one week in advance at adavenport@ntia.gov. Individuals requiring accommodations are asked to notify Ashley Davenport at 240-961-1937 or adavenport@ntia.gov at least ten (10) business days before the meeting. Attendees are encouraged to arrive early to permit sufficient time to complete security procedures.

Status: Interested parties are invited to attend the meeting. Attendance is restricted to U.S. citizens.

Records: NTIA maintains records of all Committee proceedings. Committee records are available for public inspection at NTIA's Washington, DC office at the address above.

Sean Conway,
Acting Chief Counsel, National Telecommunications and Information Administration.

[FR Doc. 2024-17302 Filed 8-5-24; 8:45 am]

BILLING CODE P